DEPARTMENT OF ENERGY

Federal Energy Regulatory Commission

[Project No. 12626-002]

Northern Illinois Hydropower, LLC; Notice of Application Tendered for Filing With the Commission, Soliciting Additional Study Requests, and Establishing Procedural Schedule for Licensing and Deadline for Submission of Final Amendments

April 28, 2009.

Take notice that the following hydroelectric application has been filed with the Commission and is available for public inspection.

a. Type of Application: Original License.

b. Project No.: P-12626-002.

c. Date Filed: April 1, 2009.

d. Applicant: Northern Illinois Hydropower, LLC.

e. Name of Project: Dresden Island Project.

f. Location: U.S. Army Corps of Engineers Dresden Island Dam on the Illinois River, in the Town of Morris, Grundy County, Illinois. The project will affect approximately 7.1 acres of Federal lands.

g. Filed Pursuant to: Federal Power Act 16 U.S.C. 791(a)-825(r).

h. Applicant Contact: Damon Zdunich, Northern Illinois Hydropower, LLC, 801 Oakland Avenue, Joliet, IL 60435, (312) 320-1610.

i. FERC Contact: Michael Spencer, (202) 502-6093.

j. Cooperating Agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of this notice, and serve a copy of the request on the applicant.

l. Deadline for filing additional study requests and requests for cooperating agency status: May 27, 2009.

All documents (original and eight copies) should be filed with: Kimberly D. Bose, Secretary, Federal Energy Regulatory Commission, 888 First Street, NE., Washington, DC 20426.

Additional study requests and requests for cooperating agency status may be filed electronically via the internet in lieu of paper. The Commission strongly encourages electronic filings. See 18 CFR 385.2001(a)(1)(iii) and the instructions on the Commission's Web site at (http://www.ferc.gov) under the “eFiling” link. For a simpler method of submitting text only comments, click on “Quick Comment.”

m. This application is not ready for environmental analysis at this time.

n. Description of Project: The Dresden Island Project utilize the Corps of Engineer's existing Dresden Island Dam and reservoir and would consist of: (1) A new 75-ft by 125-ft concrete powerhouse between headgate sections 10 through 16 containing three generating units with a total installed capacity of 10.2 MW; (2) a 50-foot by 50-foot switchyard adjacent and to the north of the powerhouse building; (3) a new .08-mile-long transmission line; and (4) appurtenant facilities. The project would have an average annual generation of about 60,000 megawatt-hours.

o. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Illinois State Historic Preservation Officer (SHPO), as required by section 106, National Historic Preservation Act, and the regulations of the Advisory Council on Historic Preservation, 36 CFR 800.4.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intends to give at least 30 days for entities to comment on the EA, and will take into consideration all comments received on the EA before final action is taken on the license application.

Issue Scoping Document 1 for comments: September 2009.

Notice of application ready for environmental analysis: February 2010.

Notice of the availability of the draft EA: May 2010.

Notice of the availability of the final EA: August 2010.

Final amendments to the application must be filed with the Commission no later than 30 days from the issuance date of the notice of ready for environmental analysis.

Kimberly D. Bose,
Secretary.

[FR Doc. E9-10250 Filed 5-4-09; 8:45 am]

BILLING CODE 6717-01-P